DEPARTMENT OF ENERGY

Federal Energy Regulatory Commission

Notice of Filing

October 20, 2000.

In the matter of RT01-78-000, RT01-79-000, RT01-80-000, (Not Consolidated), Minnesota Power, Mt. Carmel Public Utility Company, Sun River Electric Cooperative, Inc.

Take notice that on October 16, 2000, the entities listed in the caption above made compliance filings pursuant to 18 CFR 35.34(c) and the Commission's Order No. 2000.¹

¹ Regional Transmission Organizations, Order No. 2000, 65 FR 809 (January 6, 2000), FERC Stats. & Regs. 31,089 (1999), order on reh.g, Order No. 20000-A, 65 FR 12,088 (March 8, 2000); FERC Stats. & Regs. 31,092 (2000).

Any person desiring to be heard or to protest such filings should file a motion to intervene, comments, or protest the Federal Energy Regulatory Commission, 888 First Street, NE., Washington, DC 20426, in accordance with Rules 211 and 214 of the Commission's Rules of Practice and Procedure (18 CFR 385.211 and 214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See 18 CFR 385.2001(a)(1)(iii) and the instructions on the Commission's web site at ­http://www.ferc.fed.us/efi/doorbell.htm.

Linwood A. Watson, Jr.,
Acting Secretary.

[FR Doc. 00-27496 Filed 10-25-00; 8:45 am]

BILLING CODE 6717-01-M